DEPARTMENT OF STATE

22 CFR Part 171

[Public Notice: 9263]

RIN 1400-AD78

Privacy Act; STATE-75, Family Advocacy Case Records

AGENCY: Department of State.

ACTION: Notice of proposed rulemaking.

SUMMARY: The Department of State is giving notice that certain portions of the Family Advocacy Case Records, STATE -75, system of records are proposed to be exempt from one or more provisions of the Privacy Act of 1974.

DATES: Comments on this rule are due by October 19, 2015.

FOR FURTHER INFORMATION CONTACT: John Hackett, Director; Office of Information Programs and Services, A/GIS/IPS; Department of State, SA-2; 515 22nd Street NW., Washington, DC 20522-8001, or at Privacy@state.gov.

SUPPLEMENTARY INFORMATION: The Department of State maintains the Family Advocacy Case Records system of records. The primary purpose of this system of records is to be utilized at post by members of the Family Advocacy Team and in the Department of State by the Family Advocacy Committee. The information may be shared within the Department of State on a need to know basis and in medical clearance determinations for overseas assignment of covered employees and family members, as well as for making determinations involving curtailment, medical evacuation, suitability, and security clearance. See Public Notice 6472 (January 5, 2009) at 74 FR 330.

The Department of State is issuing this document as a notice to amend 22 CFR part 171 to exempt portions of the Family Advocacy Case Records system of records from the Privacy Act subsections (c)(3);(d); (e)(1); (e)(4)(G), (H), and (I); and (f) of the Privacy Act pursuant to 5 U.S.C. 552a (k)(1) and (k)(2). STATE-75 is exempted under (k)(1) to the extent that records within that system are subject to the provisions of 5 U.S.C. 552(b)(1) STATE-75 is exempted under (k)(2) to the extent that records within that system are comprised of investigatory material compiled for law enforcement purposes, subject to the limitations set forth in that section.

List of Subjects in 22 CFR Part 171

Privacy.

For the reasons stated in the preamble, 22 CFR part 171 is proposed to be amended as follows:

PART 171—[AMENDED]

The authority citation for part 171 continues to read as follows:

Authority: 5 U.S.C. 552, 552a; 22 U.S.C. 2651a; Pub. L. 95-521, 92 Stat. 1824, as amended; E.O. 13526, 75 FR 707; E.O. 12600, 52 FR 23781, 3 CFR, 1987 Comp., p. 235.

§ 171.36 [Amended]

2. Section 171.36 is amended by adding an entry, in alphabetical order, for “Family Advocacy Case Records, STATE-75” to the lists in paragraphs (b)(1) and (2).

Joyce A. Barr,
Assistant Secretary for Administration, U.S. Department of State.

[FR Doc. 2015-22711 Filed 9-8-15; 8:45 am]

BILLING CODE 4710-36-P